DEPARTMENT OF TRANSPORTATION

Federal Aviation Administration

FAA Approval of Noise Compatibility Program for Hawthorne Municipal Airport, Hawthorne, California

AGENCY: Federal Aviation Administration, DOT.

ACTION: Notice.

SUMMARY: The Federal Aviation Administration (FAA) announces its findings on the noise compatibility program submitted by the City of Hawthorne, California. On April 11, 2014, the FAA determined that the noise exposure maps submitted by the City of Hawthorne were in compliance with applicable requirements. On December 18, 2017, the FAA approved the Hawthorne Municipal Airport Noise Compatibility Program. All 11 of the recommendations of the program were approved. No program elements relating to new or revised flight procedures for noise abatement were proposed by the airport operator.

DATES: The applicability date of the FAA's approval of the Hawthorne Municipal Airport noise compatibility program is December 18, 2017.

FOR FURTHER INFORMATION CONTACT: Victor Globa, Environmental Protection Specialist, Federal Aviation Administration, Los Angeles Airports District Office, 15000 Aviation Boulevard, Lawndale, California 90261. Telephone: 310-725-3637. Documents reflecting this FAA action may be reviewed at this same location.

SUPPLEMENTARY INFORMATION: This notice announces that the FAA has given its overall approval to the noise compatibility program for Hawthorne Municipal Airport, applicable December 18, 2017.

Under section 47504 of 49, United States Code (U.S.C.) (the Aviation Safety and Noise Abatement Act, hereinafter referred to as “the Act”), an airport operator who has previously submitted a noise exposure map may submit to the FAA a noise compatibility program which sets forth the measures taken or proposed by the airport operator for the reduction of existing non-compatible land uses and prevention of additional non-compatible land uses within the area covered by the noise exposure maps. The Act requires such programs to be developed in consultation with interested and affected parties including local communities, government agencies, airport users, and FAA personnel.

Each airport noise compatibility program developed in accordance with 14 Code of Federal Regulations (CFR) part 150 (hereinafter referred to as “part 150”) is a local program, not a Federal program. The FAA does not substitute its judgment for that of the airport proprietor with respect to which measures should be recommended for action. The FAA's approval or disapproval of part 150 program recommendations is measured according to the standards expressed in part 150 and the Act and is limited to the following determinations:

a. The noise compatibility program was developed in accordance with the provisions and procedures of part 150;

b. Program measures are reasonably consistent with achieving the goals of reducing existing non-compatible land uses around the airport and preventing the introduction of additional non-compatible land uses;

c. Program measures would not create an undue burden on interstate or foreign commerce, unjustly discriminate against types or classes of aeronautical uses, violate the terms of airport grant agreements, or intrude into areas preempted by the Federal Government; and

d. Program measures relating to the use of flight procedures can be implemented within the period covered by the program without derogating safety, adversely affecting the efficient use and management of the navigable airspace and air traffic control systems, or adversely affecting other powers and responsibilities of the Administrator prescribed by law.

Specific limitations with respect to FAA's approval of an airport noise compatibility program are delineated in part 150, § 150.5. Approval is not a determination concerning the acceptability of land uses under Federal, state, or local law. Approval does not by itself constitute an FAA implementing action. A request for Federal action or approval to implement specific noise compatibility measures may be required. Prior to an FAA decision on a request to implement the action, an environmental review of the proposed action may be required. Approval does not constitute a commitment by the FAA to financially assist in the implementation of the program nor a determination that all measures covered by the program are eligible for grant-in-aid funding from the FAA. Where Federal funding is sought, requests for project grants must be submitted to the FAA Los Angeles Airports District Office in the Western-Pacific Region.

The City of Hawthorne submitted their noise compatibility program to the FAA on June 20, 2017, including the noise exposure maps, descriptions and other documentation produced during the noise compatibility planning study conducted from September 7, 2011 through June 20, 2017. The Hawthorne Municipal Airport noise exposure maps were determined by FAA to be in compliance with applicable requirements on April 11, 2014. Notice of this determination was published in the Federal Register (79 FR 24489) on April 30, 2014.

The noise exposure maps are based on operational data that is now over five years old. FAA received certification, in accordance with 14 CFR 150.21, that the noise exposure maps are representative of conditions at the airport for the existing and forecast timeframe as of the date of March 2014. Due to the aircraft operational and fleet mix changes since 2014, at the airport, FAA recommends the City of Hawthorne review, revise, and update, as appropriate the future noise exposure maps under 14 CFR 150.21 at the earliest opportunity.

The Hawthorne Municipal Airport study contains a proposed noise compatibility program comprised of actions designed for phased implementation by airport management and adjacent jurisdictions through the year 2017. It was requested that the FAA evaluate and approve this material as a noise compatibility program as described in section 47504 of the Act. The FAA began its review of the program on June 23, 2017, and was required by a provision of the Act to approve or disapprove the program within 180 days (other than the use of new or modified flight procedures for noise control). Failure to approve or disapprove such program within the 180-day period shall be deemed to be an approval of such program.

The submitted program contained 11 proposed actions for noise abatement, noise mitigation, land use planning and program management measures on and off the airport. The FAA completed its review and determined that the procedural and substantive requirements of the Act and part 150 have been satisfied. The overall program was approved by the FAA on December 18, 2017.

Outright approval was granted for all 11 specific program measures. The approved measures include: Continue to implement Hawthorne Municipal Airport Fly Quietly pilot and public education program; Continue to use the existing ground run‐up area on the south side of the airport; Support the land use compatibility guidelines for project review found in the City of Hawthorne and Inglewood Noise Elements of the General Plan; The City of Hawthorne should amend its Noise Element to include monitoring and updating the part 150 Noise Compatibility Study; Incorporate the Hawthorne Municipal Airport 65 Community Noise Equivalent Level (CNEL) noise contour into the City of Hawthorne General Plan Map; The City of Hawthorne should adopt formal project review guidelines addressing noise compatibility issues; The City of Hawthorne should establish an Airport Overlay Zone; Establish a voluntary residential property acquisition and redevelopment program to remove noise‐sensitive land uses within the 2017 65 CNEL noise contour; Continue Use of Airport's Noise Complaint Handling System; Update Noise Exposure Maps and Noise Compatibility Program; and Monitor Implementation of updated part 150 Noise Compatibility Program.

These determinations are set forth in detail in a Record of Approval signed by the Director, Office of Airports, Western-Pacific Region on December 18, 2017. The Record of Approval, as well as other evaluation materials and the documents comprising the submittal, are available for review at the FAA office listed above and at the administrative offices of the City of Hawthorne.

The Record of Approval also will be available on-line at: http://www.faa.gov/airports/environmental/airport_noise/part_150/states/.

Issued in Hawthorne, California, on February 9, 2018.
Mark A. McClardy,
Director, Office of Airports, Western-Pacific Region.

[FR Doc. 2018-03425 Filed 2-16-18; 8:45 am]

BILLING CODE 4910-13-P